DEPARTMENT OF COMMERCE

National Oceanic and Atmospheric Administration

RIN 0648-XA997

Pacific Fishery Management Council; Public Meetings

AGENCY: National Marine Fisheries Service (NMFS), National Oceanic and Atmospheric Administration (NOAA), Commerce.

ACTION: Notice of public meetings.

SUMMARY: The Pacific Council and its advisory entities will hold public meetings.

DATES: The Pacific Council and its advisory entities will meet February 29 to March 7, 2012. The Pacific Council meeting will begin on Friday, March 2, 2012 at 8 a.m., reconvening each day through Wednesday, March 7, 2012. All meetings are open to the public, except a closed session will be held as the third agenda item on Saturday, March 3 to address litigation and personnel matters. The Pacific Council will meet as late as necessary each day to complete its scheduled business.

ADDRESSES: Meetings of the Pacific Council and its advisory entities will be held at the DoubleTree Hotel Sacramento, 2001 Point West Way, Sacramento, CA 95815; telephone: (916) 929-8855.

Council address: Pacific Fishery Management Council, 7700 NE Ambassador Place, Suite 101, Portland, OR 97220.

FOR FURTHER INFORMATION CONTACT: Dr. Donald O. McIsaac, Executive Director; telephone: (503) 820-2280 or (866) 806-7204 toll free; or access the Pacific Council Web site, http://www.pcouncil.org for the current meeting location, proposed agenda, and meeting briefing materials.

SUPPLEMENTARY INFORMATION: The following items are on the Pacific Council agenda, but not necessarily in this order:

A. Call to Order

1. Opening Remarks

2. Roll Call

3. Executive Director's Report

4. Approve Agenda

B. Highly Migratory Species Management

1. National Marine Fisheries Service (NMFS) Report

2. Update on and Recommendations for International Management Activities

3. Swordfish Management Data Report and Future Management Recommendations

C. Open Comment Period

Comments on Non-Agenda Items

D. Coastal Pelagic Species Management

Exempted Fishing Permits for 2012

E. Habitat

Current Habitat Issues

F. Groundfish Management

1. Planning and Necessary Actions for the 2012-13 Pacific Whiting Fishing Seasons, Including Potential Impacts from the Pacific Dawn Litigation

2. Briefing on and Limited Actions for Emerging Issues in the 2013-14 Biennial Specifications Process

3. NMFS Report

4. Scoping for Amendment 24: Improvements to the Groundfish Management Process

5. Stock Assessment Planning for Management Specifications in the 2014-15 Fisheries

6. Consideration of Inseason Adjustments

7. Harvest Set-Aside Flexibility

8. Trawl Rationalization Trailing Actions and Allocation Amendments and Actions

G. Salmon Management

1. NMFS Report

2. Review of 2011 Fisheries and Summary of 2012 Stock Abundance Forecasts

3. Rebuilding Plan Consideration for Sacramento River Fall Chinook and Strait of Juan de Fuca Coho

4. Identification of Management Objectives and Preliminary Definition of 2012 Salmon Management Alternatives

5. Council Recommendations for 2012 Management Alternative Analysis

6. Scoping of Amendment 17: Updating Salmon Essential Fish Habitat

7. Further Council Direction for 2012 Management Alternatives

8. Adoption of 2012 Management Alternatives for Public Review

9. Salmon Hearings Officers

H. Pacific Halibut Management

1. Report on the International Pacific Halibut Commission Meeting

2. Incidental Catch Recommendations for the Salmon Troll and Fixed Gear Sablefish Fisheries

3. Update on Review of Pacific Halibut Management under the National Environmental Policy Act and Status of Preliminary Alternatives for Incidental Catch Retention of Pacific Halibut in the Limited Entry Fixed Gear Sablefish Fisheries

I. Administrative Matters

1. Approval of Council Meeting Minutes

2. Membership Appointments and Council Operating Procedures

3. Future Council Meeting Agenda and Workload Planning

Schedule of Ancillary Meetings

Day 1—Wednesday, February 29, 2012

Highly Migratory Species Advisory Subpanel—8 a.m.

Highly Migratory Species Management Team—8 a.m.

Day 2—Thursday, March 1, 2012

Highly Migratory Species Advisory Subpanel—8 a.m.

Highly Migratory Species Management Team—8 a.m.

Scientific and Statistical Committee—8 a.m.

Day 3—Friday, March 2, 2012

California State Delegation—7 a.m.

Oregon State Delegation—7 a.m.

Washington State Delegation—7 a.m.

Groundfish Management Team—8 a.m.

Habitat Committee—8 a.m.

Scientific and Statistical Committee (SSC)—8 a.m.

Groundfish Advisory Subpanel—1 p.m.

Enforcement Consultants—4:30 p.m.

Day 4—Saturday, March 3, 2012

California State Delegation—7 a.m.

Oregon State Delegation—7 a.m.

Washington State Delegation—7 a.m.

Groundfish Advisory Subpanel—8 a.m.

Groundfish Management Team—8 a.m.

Salmon Advisory Subpanel—8 a.m.

Salmon Technical Team—8 a.m.

SSC Economic Subcommittee—8 a.m.

Enforcement Consultants—As Necessary

Tribal Policy Group—As Necessary

Tribal and Washington Technical Group—As Necessary

Day 5—Sunday, March 4, 2012

California State Delegation—7 a.m.

Oregon State Delegation—7 a.m.

Washington State Delegation—7 a.m.

Groundfish Advisory Subpanel—8 a.m.

Groundfish Management Team—8 a.m.

Salmon Advisory Subpanel—8 a.m.

Salmon Technical Team—8 a.m.

Enforcement Consultants—As Necessary

Tribal Policy Group—As Necessary

Tribal and Washington Technical Group—As Necessary

Day 6—Monday, March 5, 2012

California State Delegation—7 a.m.

Oregon State Delegation—7 a.m.

Washington State Delegation—7 a.m.

Groundfish Advisory Subpanel—8 a.m.

Groundfish Management Team—8 a.m.

Salmon Advisory Subpanel—8 a.m.

Salmon Technical Team—8 a.m.

Enforcement Consultants—As Necessary

Tribal Policy Group—As Necessary

Tribal and Washington Technical Group—As Necessary

Day 7—Tuesday, March 6, 2012

California State Delegation—7 a.m.

Oregon State Delegation—7 a.m.

Washington State Delegation—7 a.m.

Groundfish Advisory Subpanel—8 a.m.

Groundfish Management Team—8 a.m.

Salmon Advisory Subpanel—8 a.m.

Salmon Technical Team—8 a.m.

Enforcement Consultants—As Necessary

Tribal Policy Group—As Necessary

Tribal and Washington Technical Group—As Necessary

Day 8—Tuesday, March 7, 2012

California State Delegation—7 a.m.

Oregon State Delegation—7 a.m.

Washington State Delegation—7 a.m.

Salmon Advisory Subpanel—8 a.m.

Salmon Technical Team—8 a.m.

Enforcement Consultants—As Necessary

Tribal Policy Group—As Necessary

Tribal and Washington Technical Group—As Necessary

Although non-emergency issues not contained in this agenda may come before this Council for discussion, those issues may not be the subject of formal Council action during this meeting. Council action will be restricted to those issues specifically listed in this notice and any issues arising after publication of this notice that require emergency action under Section 305(c) of the Magnuson-Stevens Fishery Conservation and Management Act, provided the public has been notified of the Council's intent to take final action to address the emergency.

Special Accommodations

These meetings are physically accessible to people with disabilities. Requests for sign language interpretation or other auxiliary aids should be directed to Carolyn Porter at (503) 820-2280 at least 5 days prior to the meeting date.

Dated: February 8, 2012.
Tracey L. Thompson,
Acting Director, Office of Sustainable Fisheries, National Marine Fisheries Service.

[FR Doc. 2012-3231 Filed 2-10-12; 8:45 am]

BILLING CODE 3510-22-P